NUCLEAR REGULATORY COMMISSION

[Docket Nos. 50-369 and 50-370]

Duke Power Company, McGuire Nuclear Station, Units 1 and 2; Exemption

1.0 Background

The Duke power Company (the licensee) is the holder of Facility Operating License Nos. NPF-9 and NPF-17, for the McGuire Nuclear Station, Units 1 and 2. The licenses provide, among other things, that the licensee is subject to all rules, regulations, and orders of the Commission now or hereafter in effect.

These facilities consist of two pressurized water reactors located at the licensee's site in Mecklenburg County, North Carolina.

2.0 Request/Action

Title 10 of the Code of Federal Regulations (10 CFR) at subsection (a) of 10 CFR 70.24, “Criticality Accident Requirements,” requires that each licensee authorized to possess special nuclear material shall maintain in each area where such material is handled, used, or stored, a criticality accident monitoring system “using gamma- or neutron-sensitive radiation detectors which will energize clearly audible alarm signals if accident criticality occurs.” Subsection (a)(1) and (a)(2) of 10 CFR 70.24 specify the detection, sensitivity, and coverage capabilities of the monitors required by 10 CFR 70.24(a). Subsection (a)(3) of 10 CFR 70.24 requires that the licensee shall maintain emergency procedures for each area in which this licensed special nuclear material is handled, used, or stored and provides (1) that the procedures ensure that all personnel withdraw to an area of safety upon the sounding of a criticality monitor alarm, (2) that the procedures must include drills to familiarize personnel with the evacuation plan, and (3) that the procedures designate responsible individuals for determining the cause of the alarm and placement of radiation survey instruments in accessible locations for use in such an emergency. Subsection (b)(1) requires licensees to have a means to quickly identify personnel who have received a dose of 10 rads or more. Subsection (b)(2) requires licensees to maintain personnel decontamination facilities, to maintain arrangements for a physician and other medical personnel qualified to handle radiation emergencies, and to maintain arrangements for the transportation of contaminated individuals to treatment facilities outside the site boundary. Subsection (c) exempts part 50 licensees (such as McGuire) from the requirements of paragraph (b).

By letter dated February 4, 1997, as supplemented March 19, 1997, Duke Power Company (the licensee) requested an exemption for all its nuclear plants from the requirements of 10 CFR 70.24. The staff reviewed the licensee's submittal and determined that procedures and design features made an inadvertent criticality in special nuclear materials handling or storage at McGuire unlikely, in accordance with General Design Criterion 62. Accordingly, the staff granted an Exemption on July 31, 1997. Part of the basis for that exemption was that the criticality parameter of k-effective (keff ) would remain less than or equal to 0.95 when the spent fuel pool was filled with unborated water. By letter dated April 18, 2002, as supplemented on August 7 and October 9, 2002, and January 15, 2003, the licensee submitted an application for revisions to the McGuire Technical Specifications to address the spent fuel pool Boraflex degradation issues. The analysis supporting this application proposed to take partial credit for boron in the spent fuel pool water. Therefore, a part of the technical basis for which the 10 CFR 70.24 exemption was granted on July 31, 1997, has changed. The staff has reviewed the licensee's application and continues to find that existing procedures and design features make an inadvertent criticality in special nuclear materials handling or storage at McGuire unlikely.

3.0 Discussion

Pursuant to section 70.17 of 10 CFR, “Specific exemptions,” the Commission may, upon application by any interested person or upon its own initiative, grant such exemptions from the requirements of the regulations in this part as it determines are authorized by law and will not endanger life or property or the common defense and security and are otherwise in the public interest.

The staff concludes, on the basis provided above, that the licensee has thus met the intent of 10 CFR 70.24 by the low probability of an inadvertent criticality in areas where fresh fuel could be present, by the licensee's adherence to General Design Criterion 63 regarding radiation monitoring, and by provisions for personnel training and evacuation.

4.0 Conclusion

Accordingly, the Commission has determined that, pursuant to 10 CFR 70.17, the exemption is authorized by law and will not endanger life or property or the common defense and security and is otherwise in the public interest. Therefore, the Commission hereby grants Duke Power Company an exemption from the requirements of 10 CFR 70.24(a)(1), (2), and (3) for McGuire, Units 1 and 2, on the bases as stated in Section II above.

Pursuant to 10 CFR 51.32, the Commission has determined that granting of this exemption will not have a significant effect on the quality of the human environment (68 FR 5054).

This exemption is effective upon issuance and shall expire on December 31, 2005.

Dated at Rockville, Maryland, this 31st day of January.
For the Nuclear Regulatory Commission.
John A. Zwolinski,
Director, Division of Licensing Project Management, Office of Nuclear Reactor Regulation.

[FR Doc. 03-3066 Filed 2-6-03; 8:45 am]

BILLING CODE 7590-01-P